DEPARTMENT OF TRANSPORTATION

Federal Aviation Administration

14 CFR Part 39

[Docket No. 2000-NM-384-AD; Amendment 39-12039; AD 2000-25-05]

RIN 2120-AA64

Airworthiness Directives; Empresa Brasileira de Aeronautica S.A. (EMBRAER) Model EMB-135 and EMB-145 Series Airplanes

AGENCY: Federal Aviation Administration, DOT.

ACTION: Final rule; request for comments.

SUMMARY: This amendment supersedes an existing airworthiness directive (AD), applicable to certain EMBRAER Model EMB-135 and EMB-145 series airplanes, that currently requires a one-time inspection of the coupling hinge and locking fastener of the Gamah couplings of the fuel system tubing located in the wing dry bay to detect discrepancies, and follow-on corrective actions. This amendment retains those requirements and adds a requirement to revise the applicability of the existing AD to add certain airplanes. The actions specified in this AD are intended to prevent failure of the rivets of the Gamah couplings and consequent separation of a Gamah coupling, which could result in fuel leakage and consequent fire in or around the wing. This action is intended to address the unsafe condition.

DATES: Effective December 28, 2000.

The incorporation by reference of a certain publication listed in the regulations, was approved previously by the Director of the Federal Register as of October 3, 2000, (65 FR 56231, September 18, 2000).

Comments for inclusion in the Rules Docket must be received on or before January 12, 2001.

ADDRESSES: Submit comments in triplicate to the Federal Aviation Administration (FAA), Transport Airplane Directorate, ANM-114, Attention: Rules Docket No. 2000-NM-384-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-384-AD” in the subject line and need not be submitted in triplicate. Comments sent via the Internet as attached electronic files must be formatted in Microsoft Word 97 for Windows or ASCII text.

The service information referenced in this AD may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Linda M. Haynes, Aerospace Engineer, Airframe and Propulsion Branch, ACE-117A, FAA, Atlanta Aircraft Certification Office, One Crown Center, 1895 Phoenix Boulevard, suite 450, Atlanta, Georgia 30337-2748; telephone (770) 703-6091; fax (770) 703-6097.

SUPPLEMENTARY INFORMATION: On September 8, 2000, the FAA issued AD 2000-19-03, amendment 39-11904 (65 FR 56231, September 18, 2000), applicable to certain EMBRAER Model EMB-135 and EMB-145 series airplanes, to require a one-time inspection of the coupling hinge and locking fastener of the Gamah couplings of the fuel system tubing located in the wing dry bay to detect discrepancies, and follow-on corrective actions. The actions required by that AD are intended to prevent failure of the rivets of the Gamah couplings and consequent fire in or around the wing.

Actions Since Issuance of Previous Rule

Since the issuance of that AD, the manufacturer has advised the FAA that, certain airplanes were inadvertently not included in the effectivity of Embraer Alert Service Bulletin S.B. 145-28-A014, dated August 25, 2000 (the appropriate service information for AD 2000-19-03). Consequently, those additional airplanes are subject to the identified unsafe condition specified in this rule.

U.S. Type Certification of the Airplane

These airplane models are manufactured in Brazil and are type certificated for operation in the United States under the provisions of section 21.29 of the Federal Aviation Regulations (14 CFR 21.29) and the applicable bilateral airworthiness agreement.

Explanation of Requirements of Rule

Since an unsafe condition has been identified that is likely to exist or develop on other airplanes of the same type design registered in the United States, this AD supersedes AD 2000-19-03 to continue to require a one-time inspection of the coupling hinge and locking fastener of the Gamah couplings of the fuel system tubing located in the wing dry bay to detect discrepancies, and follow-on corrective actions. This AD also requires the addition of certain airplanes to the applicability of this AD.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-384-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11904 (65 FR 56231, September 18, 2000), and by adding a new airworthiness directive (AD), amendment 39-12039, to read as follows:

2000-25-05 Empresa Brasileira de Aeronautica S.A. (Embraer): Amendment 39-12039. Docket 2000-NM-384-AD. Supersedes AD 2000-19-03, Amendment 39-11904.

Applicability: Model EMB-135 and EMB-145 series airplanes, as listed in Embraer Alert Service Bulletin S.B. 145-28-A014, dated August 25, 2000, and serial numbers 145301 through 145312, inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Required as indicated, unless accomplished previously.

To prevent failure of the rivets attaching the Gamah coupling hinge to the fuel system tubing and consequent separation of the coupling, which could result in fuel leakage and consequent fire in or around the wing, accomplish the following:

Continuing Requirements of AD 2000-19-03—General Visual Inspection

(a) Perform a one-time general visual inspection of the hinge and locking fastener of the Gamah couplings of the fuel system tubing located in the wing dry bay to detect discrepancies (including coupling separation, and loose rivets on the coupling hinge or locking fastener attaching points), in accordance with Embraer Alert Service Bulletin S.B. 145-28-A014, dated August 25, 2000; at the times specified in paragraphs (a)(1) and (a)(2) of this AD, as applicable. If no discrepancies are detected, secure the Gamah couplings with locking wire in accordance with the alert service bulletin.

(1) For airplanes having serial numbers 145004 through 145103 inclusive; 145105 through 145121 inclusive; 145123 through 145139 inclusive; 145141 through 145153 inclusive; 145155 through 145176 inclusive: Within 400 flight hours after October 3, 2000 (the effective date of AD 2000-19-03, amendment 39-11904).

(2) For airplanes having serial numbers 145177 through 145189 inclusive; 145191 through 145230 inclusive; 145232 through 145251 inclusive; 145253 through 145255 inclusive; 145258 through 145262 inclusive; 145264 through 145293 inclusive; 145295, 145296, and 145298 through 145300 inclusive: Within 50 flight hours after October 3, 2000.

Follow-On Corrective Actions

(b) If any discrepancies (including coupling separation, and loose rivets on the coupling hinge or locking fastener attaching points) are detected after accomplishment of the inspection required by paragraph (a) of this AD: Before further flight, replace any affected Gamah couplings and secure the Gamah couplings with locking wire in accordance with Embraer Alert Service Bulletin S.B. 145-28-A014, dated August 25, 2000. Accomplishment of this paragraph terminates the requirements of this AD.

New Requirements of This AD—General Visual Inspection

(c) For airplanes having serial numbers 145301 through 145312, inclusive: Perform a one-time general visual inspection of the hinge and locking fastener of the Gamah couplings of the fuel system tubing located in the wing dry bay to detect discrepancies (including coupling separation, and loose rivets on the coupling hinge or locking fastener attaching points), in accordance with Embraer Alert Service Bulletin S.B. 145-28-A014, dated August 25, 2000, within 50 flight hours after the effective date of this AD.

(1) If no discrepancies are detected, secure the Gamah couplings with locking wire in accordance with the alert service bulletin.

(2) If any discrepancy is detected, before further flight, accomplish the requirements of paragraph (b) of this AD.

Alternative Methods of Compliance

(d) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 2: Information concerning the existence of approved alternative methods of compliance with this AD, if any, may be obtained from the Atlanta ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Embraer Alert Service Bulletin S.B. 145-28-A014, dated August 25, 2000. The incorporation by reference of that document was approved previously by the Director of the Federal Register as of October 3, 2000 (65 FR 56231, September 18, 2000). Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Effective Date

(g) This amendment becomes effective on December 28, 2000.

Issued in Renton, Washington, on December 5, 2000.
Donald L. Riggin,
Acting Manager, Transport Airplane Directorate, Aircraft Certification Service.

[FR Doc. 00-31449 Filed 12-12-00; 8:45 am]

BILLING CODE 4910-13-P